DEPARTMENT OF JUSTICE

Notice of Lodging of a Consent Decree Pursuant to the Comprehensive Environmental Response, Compensation, and Liability Act

Notice is hereby given that a proposed consent decree in United States v. Richard Scott Johnson et al. Civil Action No. 1-00-0575-22, was lodged on May 22, 2001, with the United States District Court for South Carolina. The proposed Consent Decree would resolve certain claims under Section 107 of the Comprehensive Environmental Response, Compensation, and Liability Act of 1980, 42 U.S.C. 9607, as amended brought against Richard Scott Johnson, Stiles M. Harper, Grover Bowers Jr., Union Carbide Corporation, Olin Corporation, ExxonMobil Corporation, USX Corporation, formerly U.S. Steel, Viad Corporation, CSX Transportation, Inc., Hercules Incorporated, NOR-AM Chemical Company, and Schwerman Trucking Company (collectively “Settling Defendants”) to recover response costs incurred by the Environmental Protection Agency in connection with the release of a hazardous substances at the U.S. Steel Agrichem Old Blue Chemical Superfund Site (“Site”) in Fairfax, Allendale County, South Carolina. The United States alleges that Settling Defendants are liable as persons who own and operate or formerly owned and operated a portion of the site at the time of disposal of a hazardous substance, or as persons who arranged for the disposal of a hazardous substances at the Site at the time of the release of a hazardous substance or as a current owner of a portion of the Site. Under the proposed Consent Decree, the Settling Defendants will pay $976,000.00 to the Hazardous Substances Superfund to reimburse the United States for response costs incurred and to be incurred at the Site.

The Department of Justice will receive, for a period of thirty (30) days from the date of this publication, comments relating to the proposed Consent Decree. Comments should be addressed to the Assistant Attorney General for the Environment and Natural Resources Division, Department of Justice, P.O. Box 7611, Washington, DC 20530, and should refer to United States v. Richard Scott Johnson, et al., Civil Action No. 1-00-0575-22 (D.S.C.), DOJ Ref. #90-11-3-07057/1.

The Consent Decree may be examined at the Region 4 Office of the Environmental Protection Agency, 61 Forsyth Street, Atlanta, GA 30303 and the United States Attorney's Office for the District of South Carolina, Federal Building & U.S. Courthouse, District of South Carolina, 1441 Main Street, Suite 500, Columbia South Carolina, 29201 c/o Assistant U.S. Attorney R. Emery Clark. A copy of the proposed consent decree may be obtained by mail from the Consent Decree Library, Post Office Box 7611, Washington, DC 20044. In requesting copies please refer to the referenced case and enclose a check in the amount of $12.00 (25 cents per page reproduction costs), payable to the Consent Decree Library.

Ellen Mahan,
Assistant Section Chief, Environmental Enforcement Section, Environment and Natural Resources Division.

[FR Doc. 01-14715 Filed 6-11-01; 8:45 am]

BILLING CODE 4410-15-M